DEPARTMENT OF THE INTERIOR

National Park Service

[NPS-WASO-NAGPRA-NPS0035105; PPWOCRADN0-PCU00RP14.R50000]

Notice of Inventory Completion: Penn State University, Matson Museum of Anthropology, University Park, PA

AGENCY: National Park Service, Interior.

ACTION: Notice.

SUMMARY: In accordance with the Native American Graves Protection and Repatriation Act (NAGPRA), the Matson Museum of Anthropology, Penn State University has completed an inventory of human remains and has determined that there is no cultural affiliation between the human remains and any Indian Tribe. The human remains were removed from Smyth and Washington Counties, VA.

DATES: Disposition of the human remains in this notice may occur on or after February 13, 2023.

ADDRESSES: Dr. James Doyle, Director, Matson Museum of Anthropology, Penn State University, 216 Carpenter Building, University Park, PA 16802, telephone (814) 865-2033, email matsonmuseum@psu.edu.

SUPPLEMENTARY INFORMATION: This notice is published as part of the National Park Service's administrative responsibilities under NAGPRA. The determinations in this notice are the sole responsibility of the Matson Museum of Anthropology, Penn State University. The National Park Service is not responsible for the determinations in this notice. Additional information on the determinations in this notice, including the results of consultation, can be found in the inventory or related records held by the Matson Museum of Anthropology, Penn State University.

Description

In 1978, Mrs. Bertha H. Lucas donated human remains that had been removed from the State of Virginia to Pennsylvania State University. Since 1902, her husband, Mr. Howard K. Lucas, had been collecting prehistoric items, and during the 1920s and 1930s, he purchased some items from other collectors. Although the Matson Museum's accession file does not specify how and when particular items in the Lucas Collection were acquired, it does state that human remains representing, at minimum, 25 individuals were removed from Smyth and Washington Counties, VA. The Lucas Collection (Penn State Lot 27) contains 25 skulls. Four crania have no mandibles (PSU27:137 belonging to a young adult female, PSU27:141 belonging to an adult female, PSU27:146 belonging to an aged adult, and PSU27:175 belonging to an adult male). Six crania have matching mandibles (PSU27:142 belonging to a young adult, PSU27:159 belonging to a young adult, PSU27:165 belonging to an adult male, PSU27:171 belonging to an adult female, PSU27:172 belonging to an adult male, and PSU27:173 belonging to an adult male). Three crania have uncertain matching mandibles (PSU27:140 belonging to an adult male, PSU27:166 belonging to an adult male, and PSU27:168 belonging to a young adult). Twelve crania have attached, unassociated mandibles (PSU27:135 belonging to an adult male, PSU27:138 belonging to a female with an attached mandible belonging to an adult male, PSU27:139 belonging to an adult male, PSU27:143 belonging to an adult male, PSU27:144 belonging to a young adult, PSU27:145 belonging to an adult, PSU27:147 belonging to an adult, PSU27:148 belonging to a young adult male with an attached mandible belonging to a female, PSU27:167 belonging to an adult male, PSU27:169 belonging to an adult female, PSU27:170 belonging to an adult male, and PSU27:174 belonging to an adult). One cranium with matching mandible came from Keywood in Washington County (PSU27:172); one cranium with matching mandible came from Broadford in Smyth County (PSU27:171); and the remaining 23 skulls came from Saltville in Smyth County. No known individuals were identified. No associated funerary objects are present.

Aboriginal Land

The human remains in this notice were removed from known geographic locations. These locations are the aboriginal lands of one or more Indian Tribes. The following information was used to identify the aboriginal land. Based on the 1884 Cherokee Land Cessions map compiled by C.C. Royce, there were two colonial era treaties between the Cherokee and the British that include Smyth and Washington Counties—the Treaty of October 14, 1770 at Lochabar, South Carolina, and the Treaty of March 17, 1775 with Richard Henderson.

Determinations

Pursuant to NAGPRA and its implementing regulations, and after consultation with the appropriate Indian Tribes, the Matson Museum of Anthropology, Penn State University has determined that:

• The human remains described in this notice represent the physical remains of, at minimum, 25 individuals of Native American ancestry.

• No relationship of shared group identity can be reasonably traced between the human remains and any Indian Tribe.

• The human remains described in this notice were removed from the aboriginal land of the Cherokee Nation; Eastern Band of Cherokee Indians; and the United Keetoowah Band of Cherokee Indians in Oklahoma.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after February 13, 2023. If competing requests for disposition are received, the Matson Museum of Anthropology, Penn State University must determine the most appropriate requestor prior to disposition. Requests for joint disposition of the human remains are considered a single request and not competing requests. The Matson Museum of Anthropology, Penn State University is responsible for sending a copy of this notice to the Indian Tribes identified in this notice.

Authority: Native American Graves Protection and Repatriation Act, 25 U.S.C. 3003, and the implementing regulations, 43 CFR 10.9 and 10.11.

Dated: January 4, 2023.
Melanie O'Brien,
Manager, National NAGPRA Program.

[FR Doc. 2023-00475 Filed 1-11-23; 8:45 am]

BILLING CODE 4312-52-P